ENVIRONMENTAL PROTECTION AGENCY

[FRL OP-OFA-141]

Environmental Impact Statements; Notice of Availability

Responsible Agency: Office of Federal Activities, General Information 202-564-5632 or https://www.epa.gov/nepa.

Weekly receipt of Environmental Impact Statements (EIS)

Filed August 19, 2024 10 a.m. EST Through August 26, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240152, Draft, TVA, IL, Sugar Camp Energy, LLC Mine No. 1 Significant Boundary Revision 8, Comment Period Ends: 10/15/2024, Contact: Elizabeth Smith 865-632-3053.

EIS No. 20240153, Final, BLM, UT, Grand Staircase-Escalante National Monument Resource Management Plan, Review Period Ends: 09/30/2024, Contact: Scott Whitesides 801-539-4054.

EIS No. 20240154, Final, BLM, DC, Utility-Scale Solar Energy Development PEIS, Review Period Ends: 09/30/2024, Contact: Jeremy Bluma 208-789-6014.

Dated: August 26, 2024.
Timothy Witman,
Acting Director, NEPA Compliance Division Office of Federal Activities.

[FR Doc. 2024-19536 Filed 8-29-24; 8:45 am]

BILLING CODE 6560-50-P